DEPARTMENT OF THE INTERIOR

Bureau of Land Management

[UT-910-06-1210-PH-24-1A]

Notice of Utah Resource Advisory Council Meeting

AGENCY: Bureau of Land Management, Department of the Interior.

ACTION: Notice of Utah Resource Advisory Council (RAC) meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet June 9, 2006, from 1 p.m. until 5:30 p.m., in Blanding, Utah.

ADDRESSES: The Utah BLM Resource Advisory Council will meet at the Blanding Arts Center Auditorium, 715 West 200 South, Blanding, Utah.

FOR FURTHER INFORMATION CONTCT: Contact Sherry Foot, Special Programs Coordinator, Utah State Office, Bureau of Land Management, P.O. Box 45155, Salt Lake City, Utah, 84145-0155; phone (801) 539-4195.

SUPPLEMENTARY INFORMATION: The RAC will be given updates on the status of the SITLA Exchange Proposal and San Rafael Swell RAC Subgroup; a review and discussion on the Factory Butte Subgroup report; a briefing on the Federal Land Recreation Enhancement Act and the interagency agreement for use of Recreation RACs; and, an overview of the historical overview of the Antiquities Act. A public comment period, where members of the public may address the RAC, is scheduled from 4:45 p.m.-5:15 p.m. Written comments may be sent to the Bureau of Land Management address listed above. All meetings are open to the public; however, transportation, lodging, and meals are the responsibility of the participating public.

Dated: May 4, 2006.
Gene R. Terland,
Acting State Director.

[FR Doc. E6-7458 Filed 5-16-06; 8:45 am]

BILLING CODE 4310-DK-P